DEPARTMENT OF THE INTERIOR

Minerals Management Service

Agency Information Collection Activities: Submitted for Office of Management and Budget (OMB) Review; Comment Request

AGENCY: Minerals Management Service (MMS), Interior.

ACTION: Notice of an extension of a currently approved information collection (OMB Control Number 1010-0140).

SUMMARY: To comply with the Paperwork Reduction Act of 1995 (PRA), we are notifying the public that we have submitted to OMB an information collection request (ICR) to renew approval of the paperwork requirements in the regulations under 30 CFR part 210—Forms and Reports and part 206—Product Valuation. This notice also provides the public a second opportunity to comment on the paperwork burden of these regulatory requirements. The ICR is titled “30 CFR part 210—Forms and Reports and part 206—Product Valuation (Form MMS-2014, Report of Sales and Royalty Remittance).”

DATES: Submit written comments on or before October 2, 2003.

ADDRESSES: Submit written comments by either fax (202) 395-6566 or e-mail (OIRA_DOCKET@omb.eop.gov) directly to the Office of Information and Regulatory Affairs, OMB, Attention: Desk Officer for the Department of the Interior (OMB Control Number 1010-0140). Mail or hand-carry a copy of your comments to Sharron L. Gebhardt, Regulatory Specialist, Minerals Management Service, Minerals Revenue Management, P.O. Box 25165, MS 320B2, Denver, Colorado 80225. If you use an overnight courier service, our courier address is Building 85, Room A-614, Denver Federal Center, Denver, Colorado 80225. You may also e-mail your comments to us at mrm.comments@mms.gov. Include the title of the information collection and the OMB Control Number in the “Attention” line of your comment. Also include your name and return address. Submit electronic comments as an ASCII file avoiding the use of special characters and any form of encryption. If you do not receive a confirmation that we have received your e-mail, contact Ms. Gebhardt at (303) 231-3211.

FOR FURTHER INFORMATION CONTACT: Sharron L. Gebhardt at telephone (303) 231-3211 or FAX (303) 231-3781. You may also contact Sharron Gebhardt to obtain a copy at no cost of the form and regulations that require the subject collection of information.

SUPPLEMENTARY INFORMATION: Title: 30 CFR part 210—Forms and Reports and part 206—Product Valuation (Form MMS-2014, Report of Sales and Royalty Remittance).

OMB Control Number: 1010-0140.

Bureau Form Number: Form MMS-2014.

Abstract: The Department of the Interior (DOI) is responsible for matters relevant to mineral resource development on Federal and Indian lands and the Outer Continental Shelf (OCS). The Secretary of the Interior (Secretary) under The Mineral Leasing Act (30 U.S.C. 1923) and The Outer Continental Shelf Lands Act (43 U.S.C. 1353) is responsible for managing the production of minerals from Federal and Indian lands and the OCS, collecting royalties from lessees who produce minerals, and distributing the funds collected in accordance with applicable laws. The Secretary has an Indian trust responsibility to manage Indian lands and seek advice and information from Indian beneficiaries. MMS performs the royalty management functions and assists the Secretary in carrying out DOI's Indian trust responsibility.

The Federal Oil and Gas Royalty Management Act (FOGRMA) of 1982, 30 U.S.C. 1701 et seq., states in Section 101(a) that the Secretary “* * * shall establish a comprehensive inspection, collection, and fiscal and production accounting and auditing system to provide the capability to accurately determine oil and gas royalties, interest, fines, penalties, fees, deposits, and other payments owed, and collect and account for such amounts in a timely manner.” The persons or entities described at 30 U.S.C. 1713 are required to make reports and provide reasonable information as defined by the Secretary.

Form MMS-2014, Report of Sales and Royalty Remittance, is the only document used for reporting oil and gas royalties, certain rents, and other lease-related transactions to MMS (e.g., transportation and processing allowances, lease adjustments, and quality and location differentials).

MMS is requesting OMB's approval to continue to collect this information. Not collecting this information would limit the Secretary's ability to discharge his/her duties and may also result in loss of royalty payments. Proprietary information submitted is protected, and there are no questions of a sensitive nature included in this information collection.

We have also changed the title of this ICR from “Report of Sales and Royalty Remittance” to “30 CFR part 210—Forms and Reports and part 206—Product Valuation (Form MMS-2014, Report of Sales and Royalty Remittance)” to clarify the regulatory language we are covering under 30 CFR parts 210 and 206.

Frequency: Monthly.

Estimated Number and Description of Respondents: 1,600 payors.

Estimated Annual Reporting and Recordkeeping “Hour” Burden: 125,856 hours.

The following chart details the individual components and estimated hour burdens. In calculating the burden hours, we assumed that respondents perform certain requirements in the normal course of their activities. These business activities are considered to be usual and customary, which we took into account in estimating the burden.

Respondent Annual Burden Hour Chart
30 CFR section parts 210 and 206 | Reporting requirement | Burden hours per response | Annual number of responses | Annual burden hours
210.20(a); 210.21(c)(1); 210.50; and 210.52(a)(1), (2), (b), (c), and (d); 210.354 | You must submit Form MMS-2014 * * * to MMS electronically * * * You must submit an electronic sample of your report for MMS approval * * * Records may be maintained in microfilm, microfiche, or other recorded media * * * You must submit a completed Form MMS-2014 (Report of Sales and Royalty Remitttance) to MMS with: (1) All royalty payments; and, (2) Rents on nonproducing leases, * * * When you submit Form MMS-2014 data electronically, you must not submit the form itself, Completed Forms MMS-2014 for royalty payments are due by the end of the month following the production month * * * completed Forms MMS-2014 for rental payments are due no later than the anniversary date of the lease * * * | .1167 (Manual 1%) .05 (Electronic 99%) | 24,840 2,459,160 | 2,898 122,958
| A completed Report of Sales and Royalty Remittance (Form MMS-2014) must be submitted each month once sales or utilization of production occur, * * * This report is due on or before the last day of the month following the month in which production was sold or utilized, * * *
206.55(c)(4) | Transportation allowances must be reported as a separate line item on Form MMS-2014 * * * | Burden hours included in hours above.
206.55(e)(2) | For lessees transporting production from Indian leases, the lessee must submit a corrected Form MMS-2014 to reeflect actual costs, * * * | Burden hours included in hours above.
206.110(c)(1) | You may use your proposed procedure to calculate a transportation allowance until MMS accepts or rejects your cost allocation. If MMS rejects your cost allocation, you must amend your Form MMS-2014 for the months that you used the rejected method * * * | Burden hours included in hours above.
206.114 and 206.115(a) | You or your affiliate must use a separate entry on Form MMS-2014 to notify MMS of an allowance based on transportation costs you or your affiliate incur | Burden hours included in hours above.
206.157(a)(1)(i); 206.157(b)(1) | Arm's-length transportation contracts and non-arm's-length or no contract. The lessee must claim a transportation allowance by reporting it as a separate line entry on the Form MMS-2014 | Burden hours included in hours above.
206.157(c)(1)(i) and (c)(2)(i); 206.159(c)(1)(i) and (c)(2)(i) | Arm's-length contracts and non-arm's-length or no contract. The lessee must notify MMS of an allowance based on incurred costs by using a separate line entry on the Form MMS-2014 | Burden hours included in hours above.
206.157(e)(2) | For lessees transporting production from onshore Federal leases, the lessee must submit a corrected Form MMS-2014 to reflect actual costs, * * * | Burden hours included in hours above.
206.157(e)(3) | For lessees transporting gas production from leases on the OCS, * * * the lessee must submit a corrected Form MMS-2014 to reflect actual costs, * * * | Burden hours included in hours above.
206.157(f)(1); 206.178(f)(1) | You must modify the Form MMS-2014 by the amount received or credited for the affected reporting period | Burden hours included in hours above.
206.159(a)(1)(i) and (b)(1) | Arm's-length processing contracts and non-arm's-length or no contract. The lessee must claim a processing allowance by reporting it as a separate line entry on the Form MMS-2014 | Burden hours included in hours above.
206.159(e)(3) | For lessees processing gas production from leases on the OCS, * * * the lessee must submit a corrected Form MMS-2014 to reflect actual costs, * * * | Burden hours included in hours above.
206.172(e)(6)(ii) | You must pay and report on Form MMS-2014 additional royalties due * * * | Burden hours included in hours above.
206.174(a)(4)(ii) | If the major portion value is higher, you must submit an amended Form MMS-2014 to MMS * * * | Burden hours included in hours above.
206.178(d)(2) | You must report transportation allowances as a separate line item on Form MMS-2014 | Burden hours included in hours above.
206.180(c)(2) | You must report gas processing allowances as a separate line item on Form MMS-2014 | Burden hours included in hours above.
206.353(d)(2); 206.354(d)(2) | Lessees must submit corrected Forms MMS-2014 to reflect adjustments to royalty payments * * * | Burden hours included in hours above.
Total |  |  | 2,484,000 | 125,856

Estimated Annual Reporting and Recordkeeping “Non-hour” Cost Burden: We have identified no “non-hour” cost burdens.

Public Disclosure Statement: The PRA (44 U.S.C. 3501, et seq.) provides that an agency may not conduct or sponsor, and a person is not required to respond to, a collection of information unless it displays a currently valid OMB Control Number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on May 13, 2003, (68 FR 25622) announcing that we would submit this ICR to OMB for approval. The notice provided the required 60-day comment period. We received no comments in response to this notice.

If you wish to comment in response to this notice, you may send your comments to the offices listed under the ADDRESSES section of this notice. OMB has up to 60 days to approve or disapprove the information collection but may respond after 30 days. Therefore, to ensure maximum consideration, OMB should receive public comments by October 2, 2003.

Public Comment Policy: We will post all comments in response to this notice on our Web site at http://www.mrm.mms.gov/Laws_R_D/InfoColl/InfoColCom.htm. We will also make copies of the comments available for public review, including names and addresses of respondents, during regular business hours at our offices in Lakewood, Colorado. Individual respondents may request that we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Acting Information Collection Clearance Officer: Nicolette Humphries (202) 208-7744.

Dated: August 21, 2003.
Lucy Querques Denett,
Associate Director for Minerals Revenue Management.

[FR Doc. 03-22336 Filed 8-29-03; 8:45 am]

BILLING CODE 4310-MR-P